DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 a.m. and 5 p.m. in Room 4211, U.S. Department of Commerce, 14th Street and Constitution Avenue, N.W., Washington, D.C.

Docket Number: 00-007. Applicant: University of Wisconsin-Milwaukee, 1900 E. Kenwood Boulevard, Room B30, Milwaukee, WI 53211. Instrument: Scanning Tunneling Microscope, Model STM 25DH. Manufacturer: Omicron Vakuumphysik GmbH, Germany. Intended Use: The instrument is intended to be used for the growth of epitaxial semiconductors by molecular beam epitaxy technique and characterization in situ with variable temperature scanning tunneling microscopy, reflection high energy electron diffraction, low energy electron diffraction and Auger electron spectroscopy. The ultimate goal of this project is to investigate and understand the processes at atomic level and to control and manipulate the motion of atoms on surfaces so that the more sophisticated device structures can be made. Application accepted by Commissioner of Customs: March 24, 2000.

Docket Number: 00-008. Applicant: University of Delaware Department of Chemical Engineering, Colburn Laboratory, 150 Academy Street, Newark, DE 19716. Instrument: Electron Microscope, Model JEM-2010F. Manufacturer: JEOL Ltd., Japan. Intended Use: The instrument is intended to be used for the study of the microstructure of metals, ceramics, semiconductors, superconductors, zeolites, polymers, colloids and biomaterials to obtain structural and compositional information on the materials. In addition, the instrument will be used for the training of faculty, staff and graduate students in the graduate course Transmission Electron Microscopy in Materials Science (MASC 823). Application accepted by Commissioner of Customs: April 3, 2000.

Frank W. Creel,
Director, Statutory Import Programs Staff.

[FR Doc. 00-9997 Filed 4-20-00; 8:45 am]

BILLING CODE 3510-DS-P